DEPARTMENT OF HOMELAND SECURITY

Federal Emergency Management Agency

[Docket ID FEMA-2014-0002; Internal Agency Docket No. FEMA-B-1357]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case no. | Chief executive officer of community | Community map repository | Online location of letter of map revision | Effective date of modification | Community No.
Alabama: Tuscaloosa | City of Tuscaloosa (13-04-7373P) | The Honorable Walter Maddox, Mayor, City of Tuscaloosa, 2201 University Boulevard, Tuscaloosa, AL 35401 | Engineering Department, 2201 University Boulevard, Tuscaloosa, AL 35401 | www.msc.fema.gov/lomc | February 7, 2014 | 010203
Arizona:
Pima | Unincorporated areas of Pima County (13-09-0833P) | The Honorable Ramon Valadez, Chairman, Pima County Board of Supervisors, 130 West Congress Street, 11th Floor, Tucson, AZ 85701 | 97 East Congress Street, 3rd Floor, Tucson, AZ 85701 | www.msc.fema.gov/lomc | January 24, 2014 | 040073
Pinal | City of Maricopa, (13-09-0781P) | The Honorable Christian Price, Mayor, City of Maricopa, P.O. Box 610, Maricopa, AZ 85139 | City Clerk's Department, 39700 West Civic Center Plaza, Maricopa, AZ 85138 | www.msc.fema.gov/lomc | January 24, 2014 | 040052
California:
Los Angeles | City of Santa Clarita (13-09-2046P) | The Honorable Bob Kellar, Mayor, City of Santa Clarita, 23920 Valencia Boulevard, Santa Clarita, CA 91355 | City Hall, 23920 Valencia Boulevard, Santa Clarita, CA 91355 | www.msc.fema.gov/lomc | February 7, 2014 | 060729
San Luis Obispo | City of San Luis Obispo (13-09-2401P) | The Honorable Jan Howell Marx, Mayor, City of San Luis Obispo, 990 Palm Street, San Luis Obispo, CA 93401 | Public Works Department, 919 Palm Street, San Luis Obispo, CA 93401 | www.msc.fema.gov/lomc | January 31, 2014 | 060310
Ventura | City of Camarillo (13-09-1000P) | The Honorable Charlotte Craven, Mayor, City of Camarillo, 601 Carmen Drive, Camarillo, CA 93010 | Public Works Department, 601 Carmen Drive, Camarillo, CA 93010 | www.msc.fema.gov/lomc | January 31, 2014 | 065020
Ventura | Unincorporated areas of Ventura County (13-09-1000P) | The Honorable Peter C. Foy, Chairman, Ventura County Board of Supervisors, 800 South Victoria Avenue, Ventura, CA 93009 | Ventura County Hall of Administration, Public Works Agency, 800 South Victoria Avenue, Ventura, CA 93009 | www.msc.fema.gov/lomc | January 31, 2014 | 060413
Colorado:
Boulder | City of Lafayette (13-08-0605P) | The Honorable Carolyn Cutler, Mayor, City of Lafayette, 1290 South Public Road, Lafayette, CO 80026 | City Hall, 1290 South Public Road, Lafayette, CO 80026 | www.msc.fema.gov/lomc | January 24, 2014 | 080026
Boulder | City of Louisville (13-08-0605P) | The Honorable Bob Muckle, Mayor, City of Louisville, 1101 Lincoln Avenue, Louisville, CO 80027 | City Hall, 749 Main Street, Louisville, CO 80027 | www.msc.fema.gov/lomc | January 24, 2014 | 085076
Denver | City and County of Denver (13-08-0332P) | The Honorable Michael B. Hancock, Mayor, City and County of Denver, 1437 North Bannock Street, Suite 350, Denver, CO 80202 | Department of Public Works, 201 West Colfax Avenue, Denver, CO 80202 | www.msc.fema.gov/lomc | February 12, 2014 | 080046
Florida:
Collier | City of Naples (13-04-5410P) | The Honorable John F. Sorey, III, Mayor, City of Naples, 735 8th Street South, Naples, FL 34102 | Building Department, 295 Riverside Circle, Naples, FL 34102 | www.msc.fema.gov/lomc | January 24, 2014 | 125130
Orange | City of Orlando (13-04-2963P) | The Honorable Buddy Dyer, Mayor, City of Orlando, P.O. Box 4990, Orlando, FL 32808 | Permitting Services Department, 400 South Orange Avenue, Orlando, FL 32801 | www.msc.fema.gov/lomc | February 7, 2014 | 120186
Orange | Unincorporated areas of Orange County (13-04-2963P) | The Honorable Teresa Jacobs, Mayor, Orange County, 201 South Rosalind Avenue, 5th Floor, Orlando, FL 32801 | Orange County Stormwater Management Division, 4200 South John Young Parkway, Orlando, FL 32839 | www.msc.fema.gov/lomc | February 7, 2014 | 120179
Sarasota | City of Sarasota (13-04-6594P) | The Honorable Shannon Snyder, Mayor, City of Sarasota, 1565 1st Street, Room 101, Sarasota, FL 34236 | City Hall, 1565 1st Street, Sarasota, FL 34236 | www.msc.fema.gov/lomc | January 31, 2014 | 125150
Sarasota | Unincorporated areas of Sarasota County (13-04-6707P) | The Honorable Carolyn Mason, Chair, Sarasota County Commission, 1660 Ringling Boulevard, Sarasota, FL 34236 | Sarasota County Stormwater Management Division, 1001 Sarasota Center Boulevard, Sarasota, FL 34240 | www.msc.fema.gov/lomc | February 12, 2014 | 125144
Sumter | Unincorporated areas of Sumter County (13-04-5645P) | The Honorable Doug Gilpin, Chairman, Sumter County Board of Commissioners, 7375 Powell Road, Wildwood, FL 34785 | Sumter County Planning Department, 7375 Powell Road, Wildwood, FL 34785 | www.msc.fema.gov/lomc | February 7, 2014 | 120296
Georgia: Forsyth | Unincorporated areas of Forsyth County (13-04-6334P) | The Honorable R.J. Amos, Chairman, Forsyth County Board of Commissioners, 110 East Main Street, Suite 210, Cumming, GA 30040 | Forsyth County Administration Building, 110 East Main Street, Suite 120, Cumming, GA 30040 | www.msc.fema.gov/lomc | January 9, 2014 | 130312
Hawaii: Hawaii | Hawaii County (13-09-2129P) | The Honorable William P. Kenoi, Mayor, Hawaii County, 25 Aupuni Street, Suite 1401, Hilo, HI 96720 | Hawaii County Office Building, Department of Public Works, 101 Pauahi Street, Suite 7, Hilo, HI 96720 | www.msc.fema.gov/lomc | February 7, 2014 | 155166
Kentucky: Christian | City of Hopkinsville (13-04-5407P) | The Honorable Dan Kemp, Mayor, City of Hopkinsville, 101 North Main Street, Hopkinsville, KY 42240 | Lackey Municipal Building, 101 North Main Street, Hopkinsville, KY 42240 | www.msc.fema.gov/lomc | January 31, 2014 | 210055
Nevada: Douglas | Unincorporated areas of Douglas County (13-09-2041P) | The Honorable Greg Lynn, Chairman, Douglas County Board of Commissioners, P.O. Box 218, Minden, NV 89423 | Douglas County Community Development Department, Planning Division, 1594 Esmeralda Avenue, Minden, NV 89423 | www.msc.fema.gov/lomc | January 27, 2014 | 320008
North Carolina:
Lee | Unincorporated areas of Lee County (11-04-7013P) | The Honorable Charlie Parks, Chairman, Lee County Board of Commissioners, P.O. Box 1968, Sanford, NC 27331 | Summit Building, 408 Summit Drive, Sanford, NC 27331 | www.msc.fema.gov/lomc | January 15, 2014 | 370331
Henderson | Unincorporated areas of Henderson County (12-04-1370P) | The Honorable Charles Messer, Chairman, Henderson County Board of Commissioners, 1 Historic Courthouse Square, Suite 1, Hendersonville, NC 28792 | 100 North King Street, Hendersonville, NC 28792 | www.msc.fema.gov/lomc | January 2, 2014 | 370125
McDowell | Unincorporated areas of McDowell County (11-04-8431P) | The Honorable David N. Walker, Chairman, McDowell County Board of Commissioners, County Administration Building, 60 East Court Street, Marion, NC 28752 | County Administration Building, 60 East Court Street, Marion, NC 28752 | www.msc.fema.gov/lomc | December 26, 2013 | 370148
Wake | Town of Cary (12-04-8021P) | The Honorable Harold Weinbrecht, Jr., Mayor, Town of Cary, P.O. Box 8005, Cary, NC 27512 | Stormwater Services Division, 316 North Academy Street, Cary, NC 27512 | www.msc.fema.gov/lomc | February 13, 2014 | 370238
Wake | Town of Cary (13-04-3068P) | The Honorable Harold, Weinbrecht, Jr., Mayor, Town of Cary, P.O. Box 8005, Cary, NC 27512 | Stormwater Services Division, 316 North Academy Street, Cary, NC 27512 | www.msc.fema.gov/lomc | January 30, 2014 | 370238
South Carolina:
Charleston | City of Charleston (13-04-5644P) | The Honorable Joseph P. Riley, Jr., Mayor, City of Charleston, P.O. Box 652, Charleston, SC 29402 | Department of Public Service, 75 Calhoun Street, 3rd Floor, Charleston, SC 29401 | www.msc.fema.gov/lomc | January 31, 2014 | 455412
| Unincorporated areas of Charleston County (13-04-5644P) | The Honorable Teddie E. Pryor, Sr., Chairman, Charleston County Council, 4045 Bridge View Drive, North Charleston, SC 29405 | Charleston County Public Services Building, 4045 Bridge View Drive, North Charleston, SC 29405 | www.msc.fema.gov/lomc | January 31, 2014 | 455413
South Dakota: Lawrence | City of Spearfish (13-08-0834P) | The Honorable Dana Boke, Mayor, City of Spearfish, 625 North 5th Street, Spearfish, SD 57783 | Public Works Department, 625 North 5th Street, Spearfish, SD 57783 | www.msc.fema.gov/lomc | February 12, 2014 | 460046
Utah:
Davis | City of Farmington (13-08-0082P) | The Honorable Scott Harbertson, Mayor, City of Farmington, P.O. Box 160, Farmington, UT 84025 | City Hall, 160 South Main Street, Farmington, UT 84025 | www.msc.fema.gov/lomc | February 7, 2014 | 490044
Davis | Unincorporated areas of Davis County (13-08-0082P) | The Honorable John Petroff, Jr., Chairman, Davis County Board of Commissioners, P.O. Box 618, Farmington, UT 84025 | Davis County Planning Department, 61 South Main Street, Farmington, UT 84025 | www.msc.fema.gov/lomc | February 7, 2014 | 490038

(Catalog of Federal Domestic Assistance No. 97.022, “Flood Insurance.”)

Dated: January 31, 2014.
Roy Wright,
Deputy Associate Administrator for Mitigation, Department of Homeland Security, Federal Emergency Management Agency.

[FR Doc. 2014-05315 Filed 3-11-14; 8:45 am]

BILLING CODE 9110-12-P